FEDERAL COMMUNICATIONS COMMISSION

47 CFR Part 73

[DA 02-2228]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's rules Concerning the Lower Classification of an FM Allotment, 4 FCC Rcd 2413 (1989), and the Amendment of the Commission's Rules to permit FM Channel and Class Modifications [Upgrades] by Applications, 8 FCC Rcd 4735 (1993).

DATES: Effective October 21, 2002.

FOR FURTHER INFORMATION CONTACT: Kathleen Scheuerle, Media Bureau, (202) 418-2180.

SUPPLEMENTARY INFORMATION: This is a summary of the Commission's Report and Order, adopted September 4, 2002, and released September 20, 2002. The full text of this Commission decision is available for inspection and copying during regular business hours at the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under California, is amended by removing Channel 296B and adding Channel 296C1 at Needles.

3. Section 73.202(b), the Table of FM Allotments under Georgia, is amended by removing Channel 239C1 and adding Channel 239C2 at Valdosta.

4. Section 73.202(b), the Table of FM Allotments under Idaho, is amended by removing Channel 240A and adding Channel 240C3 at Weston.

5. Section 73.202(b), the Table of FM Allotments under South Dakota, is amended by removing Channel 222C and adding Channel 222C1 at Rapid City.

6. Section 73.202(b), the Table of FM Allotments under Washington, is amended by removing Channel 254C3 and adding Channel 254C2 at Mabton.

Federal Communications Commission.
John A. Karousos,
Assistant Chief, Audio Division, Media Bureau.

[FR Doc. 02-26232 Filed 10-18-02; 8:45 am]

BILLING CODE 6712-01-P